DEPARTMENT OF TRANSPORTATION

Federal Railroad Administration

[Docket Number FRA-2002-11809]

Petition for Waiver of Compliance

In accordance with Part 211 of Title 49 Code of Federal Regulations (CFR), this document provides the public notice that the North County Transit District (NCTD) has petitioned the Federal Railroad Administration (FRA) to modify NCTD's petition for approval of Shared Use and waiver of compliance from certain provisions of the Federal railroad safety regulations (Shared Use waiver) to include 49 CFR Part 228-Hours of Service of Railroad Employees; Recordkeeping and Reporting; Sleeping Quarters. (See Statement of Agency Policy Concerning Jurisdiction Over the Safety of Railroad Passenger Operations and Waivers Related to Shared Use of the Tracks of the General Railroad System by Light Rail and Conventional Equipment, 65 FR 42529 (July 10, 2000). See also Joint Statement of Agency Policy Concerning Shared Use of the Tracks of the General Railroad System by Conventional Railroads and Light Rail Transit Systems, 65 FR 42626 (July 10, 2000).) FRA assigned the petition Docket Number FRA-2002-11809.

NCTD operates its SPRINTER light rail transit system (SPRINTER) between Oceanside and Escondido, CA. On June 24, 2003, FRA issued the initial waiver that granted NCTD conditional relief from certain Federal railroad safety regulations, provided that NCTD maintains temporal separation on track that is shared between SPRINTER and freight railroads so that each would operate at separate and distinct portions of the day and would not operate on the shared track at the same time. Since 2003, NCTD has requested and been granted additional relief from FRA.

NCTD's SPRINTER also falls under the safety oversight of the California Public Utilities Commission (CPUC) as authorized by the Federal Transit Administration.

NCTD's requested modification to its existing Shared Use waiver seeks relief from the hours of service requirements for its light rail transit (LRT) operators. In its petition, NCDT states that SPRINTER operates with an engineer-only train crew. Additionally, NCTD's operator training and qualification program for SPRINTER is approved and monitored by the CPUC. NCTD's program complies with CPUC's General Order 143-B, Section 12.04, which provides that LRT systems shall not allow any safety sensitive employees to remain on duty for more than 12 consecutive hours or more than an aggregate of 12 hours distributed over a period of 16 hours. Finally, NCTD states that the dispatch and signal employees for SPRINTER will continue to meet all of the requirements of 49 CFR Part 228.

A copy of the petition, as well as any written communications concerning the petition, is available for review online at www.regulations.gov and in person at the U.S. Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by April 12, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on February 21, 2013.
Robert C. Lauby,
Deputy Associate Administrator for Regulatory and Legislative Operations.

[FR Doc. 2013-04390 Filed 2-25-13; 8:45 am]

BILLING CODE 4910-06-P